DEPARTMENT OF DEFENSE

Department of the Army; Corps of Engineers

Intent To Prepare a Draft Environmental Impact Statement for Carpinteria Shoreline, a Feasibility Study in the City of Carpinteria, Santa Barbara County, CA

Correction

In notice document 03-23173 beginning on page 53598 in the issue of Thursday, September 11, 2003, make the following correction:

On page 53599, in the first column, under the heading addresses, in the fourth line, “90052” should read, “90053”.

[FR Doc. C3-23173 Filed 9-19-03; 8:45 am]

BILLING CODE 1505-01-D